DEPARTMENT OF TRANSPORTATION

National Highway Traffic Safety Administration

[Docket No. NHTSA-2021-0052; Notice 1]

Maserati North America, Inc., Receipt of Petition for Decision of Inconsequential Noncompliance

AGENCY: National Highway Traffic Safety Administration (NHTSA), Department of Transportation (DOT).

ACTION: Receipt of petition.

SUMMARY: Maserati North America, Inc. (“MNA”), has determined that certain Model Year (MY) 2017 2021 Maserati Levante motor vehicles do not fully comply with Federal Motor Vehicle Safety Standard (FMVSS) No. 110, Tire selection and rims and motor home/recreation vehicle trailer load carrying capacity information for motor vehicles with a GVWR of 4,536 kilograms (10,000 pounds) or less. MNA filed an original noncompliance report dated June 7, 2021, and subsequently petitioned NHTSA on June 24, 2021, for a decision that the subject noncompliance is inconsequential as it relates to motor vehicle safety. This notice announces receipt of MNA's petition.

DATES: Send comments on or before July 18, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477—78).

FOR FURTHER INFORMATION CONTACT: Ahmad Barnes, Office of Vehicle Safety Compliance, NHTSA, (202) 366-7236.

SUPPLEMENTARY INFORMATION:

I. Overview

MNA has determined that certain MY 2017 2021 Maserati Levante motor vehicles do not fully comply with the requirements of paragraph S4.3(c) of FMVSS No. 110, Tire selection and rims and motor home/recreation vehicle trailer load carrying capacity information for motor vehicles with a GVWR of 4,536 kilograms (10,000 pounds) or less (49 CFR 571.110). MNA filed a noncompliance report dated June 7, 2021, pursuant to 49 CFR part 573, Defect and Noncompliance Responsibility and Reports. MNA subsequently petitioned NHTSA on June 24, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any Agency decision or other exercise of judgment concerning the merits of the petition.

II. Vehicles Involved

Approximately 2,917 MY 2017 2021 Maserati Levante motor vehicles equipped with 21-inch and 22-inch tires and manufactured between July 14, 2016, and May 3, 2021, are potentially involved.

III. Noncompliance

MNA explains that the noncompliance is that the subject vehicles are equipped with a vehicle placard affixed to the driver's side B-pillar erroneously understating the maximum permissible cold tire pressure and therefore, do not fully meet the requirements specified in paragraph S4.3(c) of FMVSS No. 110. Specifically, the vehicle placards for the subject vehicles state that the rear 265/40 R21 (105Y) XL and 105W XL tires have a maximum cold tire pressure of 36 psi, when it should state a maximum cold tire pressure of 38 psi, the front 265/35 ZR22 (102Y) XL tires state a maximum cold tire pressure of 33 psi, when it should state a maximum cold tire pressure of 36 psi, and the rear 295/30 ZR22 (103Y) XL tires state a maximum cold tire pressure of 36 psi, when it should state a maximum cold tire pressure of 40 psi.

IV. Rule Requirements

Paragraph S4.3(c) of FMVSS No. 110 includes the requirements relevant to this petition. Each vehicle, except for a trailer or incomplete vehicle, shall show the information specified in S4.3(a) through (g), and may show, at the manufacturer's option, the information specified in S4.3(h) and (i), on a placard permanently affixed to the driver's side B-pillar. This information shall be in the English language and conform in color and format, not including the border surrounding the entire placard, as shown in the example set forth in Figure 1 in this standard. At the manufacturer's option, the information specified in S4.3 (c), (d), and, as appropriate, (h) and (i) may be shown, alternatively to being shown on the placard, on a tire inflation pressure label which must conform in color and format, not including the border surrounding the entire label, as shown in the example set forth in Figure 2 in this standard.

V. Summary of MNA's Petition

The following views and arguments presented in this section, “V. Summary of MNA's Petition,” are the views and arguments provided by MNA. They have not been evaluated by the Agency and do not reflect the views of the Agency. MNA describes the subject noncompliance and contends that the noncompliance is inconsequential as it relates to motor vehicle safety.

In support of its petition, MNA submitted the following reasoning:

1. The incorrect pressure values are all within the range of acceptable tire inflation and would not cause a Tire Pressure Monitoring System (“TPMS”) alert.

a. The affected Maserati Levante vehicles are compliant with FMVSS No. 138.

b. Consistent with FMVSS No. 138, the TPMS illuminates at equal to or less than the pressure 25 percent below the correct vehicle manufacturer's recommended cold inflation pressure. The TPMS warning telltale will illuminate prior to the tire pressure dropping to the range of 24.7-27 PSI on the affected Maserati Levante vehicles, which is significantly above the 23.2 PSI requirement called out, and tested to, in FMVSS No. 139 (discussed below).

c. Maserati believes the warning provided by the TPMS will give drivers ample time to check and inflate tires well before low tire inflation becomes a safety concern.

2. The subject tires passed a low-inflation-pressure performance test.

a. The affected Maserati Levante vehicles are equipped with tires that are compliant with FMVSS No. 139.

b. Tire manufacturers are required to certify the tires meet all applicable requirements of FMVSS No. 139.

c. FMVSS No. 139 specifies a low-inflation-pressure performance test in which the tire is loaded to its maximum tire load capacity and inflated to only 160 kPa (23.2 PSI), significantly less than the TPMS telltale activation pressure for the subject Maserati Levante vehicles. In order to pass this test, the tires are loaded to 100 percent of the tire's maximum load-carrying capacity and then run on a test axle for 1.5 hours at 23.2 PSI.

3. MNA is not aware of any crashes, injuries, or customer complaints associated with this condition.

4. NHTSA has previously granted inconsequential treatment for FMVSS No. 110 noncompliance for incorrect vehicle placard values; see examples below:

a. General Motors, LLC, 83 FR 24162 (May 24, 2018);

b. Volkswagen Group of America, Inc., 81 FR 38772 (June 14, 2016); and

c. Mercedes-Benz USA, LLC, 82 FR 17515 (April 11, 2017).

MNA concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that MNA no longer controlled at the time it determined that the noncompliance existed. However, any decision on this petition does not relieve vehicle distributors and dealers of the prohibitions on the sale, offer for sale, or introduction or delivery for introduction into interstate commerce of the noncompliant vehicles under their control after MNA notified them that the subject noncompliance existed.

(Authority: 49 U.S.C. 30118, 30120: delegations of authority at 49 CFR 1.95 and 501.8)

Otto G. Matheke III,
Director, Office of Vehicle Safety Compliance.

[FR Doc. 2022-13081 Filed 6-16-22; 8:45 am]

BILLING CODE 4910-59-P